DEPARTMENT OF JUSTICE

Notice of Lodging of Proposed Consent Decree Under the Comprehensive Environmental Response, Compensation, and Liability Act

On April 22, 2024, the Department of Justice lodged a proposed Consent Decree with the United States District Court for the Southern District of California in the lawsuit entitled United States v. City of San Diego, San Diego Unified Port District, and San Diego County Regional Airport Authority, Civil Action No. 3:23-cv-00541-LL-BGS.

The Consent Decree resolves claims against the San Diego Unified Port District and the San Diego County Regional Airport Authority pursuant to section 107 of the Comprehensive Environmental Response, Compensation, and Liability Act for reimbursement of response costs incurred for response actions taken in connection with the release of hazardous substances at the Installation Restoration Site 12, the Boat Channel Sediments Site, at the former Naval Training Center in San Diego, California. The proposed Consent Decree requires a payment by both parties collectively of $2,412,029.89, in exchange for a covenant not to sue and contribution protection. The City of San Deigo is not a party to the Consent Decree.

The publication of this notice opens a period for public comment on the Consent Decree. Comments should be addressed to the Assistant Attorney General, Environment and Natural Resources Division, and should refer to United States v. City of San Diego, San Diego Unified Port District, and San Diego County Regional Airport Authority, D.J. Ref. No. 90-11-3-11826. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree you may request assistance by email or by mail to the addresses provided above for submitting comments.

Scott Bauer,
Assistant Section Chief, Environmental Enforcement Section, Environment and Natural Resources Division.

[FR Doc. 2024-09053 Filed 4-25-24; 8:45 am]

BILLING CODE 4410-15-P